DEPARTMENT OF HOMELAND SECURITY

Coast Guard

[Docket No. USCG-2010-0316]

National Boating Safety Advisory Council; Vacancies

AGENCY: Coast Guard, DHS.

ACTION: Request for applicants; extension of deadline.

SUMMARY: The Coast Guard is extending the deadline for accepting applications for membership on the National Boating Safety Advisory Council. This Council advises the Coast Guard on recreational boating safety regulations and other major boating safety matters.

DATES: Completed applications should reach the Coast Guard on or before June 11, 2015.

ADDRESSES: Applicants should send a cover letter expressing interest in an appointment to the National Boating Safety Advisory Council that also identifies which membership category the applicant is applying under, along with a resume detailing the applicant's boating experience via one of the following methods:

• By email: jeffrey.a.ludwig@uscg.mil (preferred).

• By mail: Commandant (CG-BSX-2)/NBSAC, Attn: Mr. Jeff Ludwig, U.S. Coast Guard, 2703 Martin Luther King Ave. SE., Stop 7581, Washington, DC 20593-7581.

FOR FURTHER INFORMATION CONTACT: Mr. Jeff Ludwig, Alternate Designated Federal Officer of National Boating Safety Advisory Council; telephone 202-372-1061 or email at jeffrey.a.ludwig@uscg.mil.

SUPPLEMENTARY INFORMATION: On February 4, 2015, the Coast Guard published a request in the Federal Register (80 FR 6096), for applications for membership in the National Boating Safety Advisory Council. The deadline to submit an application was April 6, 2015. The Coast Guard is extending the deadline until May 26, 2015. Applicants who responded to the initial notice do not need to reapply.

The National Boating Safety Council is a Federal advisory committee under the Federal Advisory Committee Act, 5 U.S.C., Appendix). It was established under the authority of 46 United States Code 13110 and advises the Coast Guard on boating safety regulations and other major boating safety matters.

The National Boating Safety Advisory Council has 21 members: Seven representatives of State officials responsible for State boating safety programs, seven representatives of recreational boat manufacturers and associated equipment manufacturers, and seven representatives of national recreational boating organizations and the general public, at least five of whom are representatives of national recreational boating organizations. Members are appointed by the Secretary of the Department of Homeland Security.

The Council usually meets at least twice each year at a location selected by the Coast Guard. It may also meet for extraordinary purposes. Subcommittees or working groups may also meet to consider specific issues.

We will consider applications for seven positions that expire or become vacant on December 31, 2015:

• Two representatives of State officials responsible for State boating safety programs;

• Two representatives of recreational boat and associated equipment manufacturers; and

• Three representatives of national recreational boating organizations or the general public.

• Applications will also be considered for a one vacancy in the national recreational boating organizations or the general public membership category that was caused by a last minute change in eligibility of an individual recommended for appointment in 2015. This position will serve a term that expires on December 31, 2017.

Applicants are considered for membership on the basis of their particular expertise, knowledge, and experience in recreational boating safety. The vacancies announced in this notice apply to membership positions that become vacant on January 1, 2016. To be eligible, you should have experience in one of the categories listed above.

Registered lobbyists are not eligible to serve on Federal advisory committees in an individual capacity. See “Revised Guidance on Appointment of Lobbyists to Federal Advisory Committees, Boards and Commissions” (79 FR 47482, August 13, 2014). The category for a member from the general public would be someone appointed in their individual capacity and would be designated as a Special Government Employee as defined in 202(a) of Title 18, United States Code. Registered lobbyists are lobbyists required to comply with provisions contained in The Lobbying Disclosure Act of 1995 (Pub. L. 104-65; as amended by Title II of Pub. L. 110-81).

Each member serves for a term of three years. Members may be considered to serve a maximum of two full consecutive terms. All members serve at their own expense and receive no salary, or other compensation from the Federal Government. The exception to this policy is when attending National Boating Safety Advisory Council meetings; members may be reimbursed for travel expenses and provided per diem in accordance with Federal Travel Regulations.

The Department of Homeland Security does not discriminate in selection of Council members on the basis of race, color, religion, sex, national origin, political affiliation, sexual orientation, gender identity, marital status, disability and genetic information, age, membership in an employee organization, or other non-merit factor. The Department of Homeland Security strives to achieve a widely diverse candidate pool for all of its recruitment actions.

If you are selected as a non-representative member or as a member from the general public, you will serve as a Special Government Employee as defined in section 202(a) of title 18, United States Code. As a candidate for appointment as a Special Government Employee, applicants are required to complete a Confidential Financial Disclosure Report (OGE Form 450). The Coast Guard may not release the reports or the information in them to the public except under an order issued by a Federal court or as otherwise provided under the Privacy Act (5 U.S.C. 552a). Applicants can obtain this form by going to the Web site of the Office of Government Ethics (www.oge.gov) or by contacting the individual listed above in FOR FURTHER INFORMATION CONTACT. Applications which are not accompanied by a completed OGE Form 450 will not be considered.

If you are interested in applying to become a member of the Council, send your cover letter and resume to Mr. Jeff Ludwig, Alternate Designated Federal Officer of National Boating Safety Advisory Council by email or mail according to the instructions in the ADDRESSES section by the deadline in the DATES section of this notice. Indicate the specific category you request to be considered for and specify your area of expertise that qualifies you to serve on the National Boating Safety Advisory Council. All email submittals will receive email receipt confirmation.

To visit our online docket, go to http://www.regulations.gov. Enter the docket number for this notice (USCG-2010-0316) in the Search box, and click “Search.” Please do not post your resume or OGE-450 Form on this site.

Dated: May 6, 2015.
Jonathan C. Burton,
Captain, U.S. Coast Guard, Director of Inspections and Compliance.

[FR Doc. 2015-11408 Filed 5-11-15; 8:45 am]

BILLING CODE 9110-04-P